DEPARTMENT OF HEALTH AND HUMAN SERVICES

Centers for Disease Control and Prevention

[30Day-25-24GU]

Agency Forms Undergoing Paperwork Reduction Act Review

In accordance with the Paperwork Reduction Act of 1995, the Centers for Disease Control and Prevention (CDC) has submitted the information collection request titled “Assessing Adoption and Implementation of the National Institute of Occupational Safety and Health's (NIOSH) Outputs” to the Office of Management and Budget (OMB) for review and approval. CDC previously published a “Proposed Data Collection Submitted for Public Comment and Recommendations” notice on June 28, 2024, to obtain comments from the public and affected agencies. CDC received two non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessing Adoption and Implementation of the National Institute of Occupational Safety and Health's (NIOSH) Outputs—New—National Institute of Occupational Safety and Health's (NIOSH), Centers for Disease Control and Prevention (CDC).

Background and Brief Description

The Centers for Disease Control and Prevention (CDC), National Institute for Occupational Safety and Health (NIOSH), is requesting approval of a new Generic information collection for a period of three years under the project titled, “Assessing Adoption and Implementation of the National Institute of Occupational Safety and Health's (NIOSH) Outputs.”

With the continuation of the Government Performance and Results Act and the more recent passage of the Foundations of Evidence-Based Policy Making Act, there is an increased need for federal agencies to measure and demonstrate their impact. However, measuring impact is challenging, especially for organizations that have a science-driven mission because of the time it takes to move from basic to applied research. Demonstrating attribution (cause and effect relationships) is particularly challenging for research organizations.

NIOSH research is often designed to collect implementation and adoption data through document reviews of NIOSH records, including grantee final reports, and through interviews with NIOSH researchers (federal employees). While commonly recognized metrics, these data sources are not comprehensive, representative, or informative of the adoption and implementation of NIOSH products and efforts. Further, the design and execution of research projects has hindered research and program leaders prioritizing information collections to understand and assess the adoption and implementation of research efforts and products.

The proposed generic information collection package would allow researchers to expeditiously pursue efforts to provide NIOSH with critical information to inform mission-driven needs. Additionally, the proposed efforts go beyond simply measuring customer satisfaction and rather seek to advance NIOSH's burden, need, and impact framework for future research while also endeavoring to execute the Office of Management and Budget's (OMB) guidance regarding the Foundations of Evidence-Based Policymaking Act.

Respondents are expected to consist of users and potential users of NIOSH products including subject matter expects, former NIOSH funding recipients, and intermediary and end users. CDC requests OMB approval for an estimated 17,150 total burden hours with an estimated annual burden of 6,069 hours. There is no cost to respondents other than their time to participate.

Estimated Annualized Burden Hours

Type of respondent | Type of data collection instrument | Number of respondents | Number of responses per respondent | Average burden per response (in hours)
Subject matter experts | Survey instrument (single, pre and post, or poll) including demographics | 5,000 | 1 | 20/60
| Informed consent form | 250 | 1 | 5/60
| Interview or focus group guide | 250 | 1 | 1
Former NIOSH funding recipients | Survey instrument (single, pre and post, or poll) including demographics | 200 | 1 | 20/60
| Informed consent form | 25 | 1 | 5/60
| Interview or focus group guide | 25 | 1 | 1
Intermediary or end users (e.g., employers, workers, manufactures, labor/professional associations, policymakers) | Survey instrument (single, pre and post, or poll) including demographics | 10,000 | 1 | 20/60
| Informed consent form | 650 | 1 | 5/60
| Interview or focus group guide | 650 | 1 | 1

Jeffrey M. Zirger,
Lead, Information Collection Review Office, Office of Public Health Ethics and Regulations, Office of Science, Centers for Disease Control and Prevention.

[FR Doc. 2024-23859 Filed 10-15-24; 8:45 am]

BILLING CODE 4163-18-P